ENVIRONMENTAL PROTECTION AGENCY

[FRL-10022-40-Region 5]

Clean Air Act Operating Permit Program; Petition for Objection to State Operating Permit for AK Steel Dearborn Works, Wayne County, Michigan

AGENCY: Environmental Protection Agency (EPA).

ACTION: Notice of final order on petition for objection to a Clean Air Act title V operating permit.

SUMMARY: The Environmental Protection Agency (EPA) Administrator signed an Order dated January 15, 2021, denying a Petition dated September 27, 2017 from the Sierra Club, the South Dearborn Environmental Improvement Association, and the Great Lakes Environmental Law Center (the Petitioners). The Petition requested that EPA object to a Clean Air Act (CAA) title V operating permit issued by the Michigan Department of Environment, Great Lakes and Energy (EGLE), to AK Steel Dearborn Works (AK Steel), located in Wayne County, Michigan.

ADDRESSES: The final order, the Petition, and other supporting information are available for public inspection during normal business hours at the following address: U.S. Environmental Protection Agency, Region 5, Air and Radiation Division, 77 West Jackson Boulevard, Chicago, Illinois 60604. This facility is open from 8:30 a.m. to 4:30 p.m., Monday through Friday, excluding Federal holidays and facility closures due to COVID-19. We recommend that you telephone Susan Kraj, Environmental Engineer, at (312) 353-2654 before visiting the Region 5 office. Additionally, the final Order and Petition are available electronically at: https://www.epa.gov/title-v-operating-permits/title-v-petition-database.

FOR FURTHER INFORMATION CONTACT: Susan Kraj, Environmental Engineer, Air Permits Section, Air Programs Branch (AR-18J), Environmental Protection Agency, Region 5, 77 West Jackson Boulevard, Chicago, Illinois 60604, (312) 353-2654, kraj.susan@epa.gov.

SUPPLEMENTARY INFORMATION: The CAA affords EPA a 45-day period to review and object to, as appropriate, operating permits proposed by state permitting authorities under title V of the CAA. Section 505(b)(2) of the CAA authorizes any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or unless the grounds for the issues arose after this period.

EPA received the September 27, 2016 Petition from the Petitioners requesting that EPA object to the issuance of operating permit no. MI-ROP-A8640.2016a issued by Michigan EGLE to AK Steel. The Petition alleged: (1) The incorporation of a construction permit into the operating permit was unlawful because the it allowed emissions increases without applying current standards, that is, EGLE evaluated the Sulphur Dioxide regulations as they existed in 2007 rather than applying the regulations in effect at the time the construction permit was issued in 2014; (2) that any future operation or rebuild of the B Blast Furnace (which is not operational due to catastrophic failure) should require a new construction permit and that the title V permit cannot authorize the operation of this Blast Furnace; and, (3) that EGLE was required to address environmental justice concerns in the permit.

On January 15, 2021, the EPA Administrator issued an Order denying the Petition. The order explains the basis for EPA's decision.

Sections 307(b) and 505(b)(2) of the CAA provide that a petitioner may request judicial review of those portions of an order that deny issues in a petition. Any petition for review of the Administrator's January 15, 2021 Order shall be filed in the United States Court of Appeals for the appropriate circuit no later than June 21, 2021.

Authority: 42 U.S.C. 7401 et seq.

Dated: April 8, 2021.
Cheryl Newton,
Acting Regional Administrator, Region 5.

[FR Doc. 2021-08372 Filed 4-21-21; 8:45 am]

BILLING CODE 6560-50-P